DEPARTMENT OF ENERGY

Federal Energy Regulatory Commission

Combined Notice of Filings

April 27, 2010.

Take notice that the Commission has received the following Natural Gas Pipeline Rate and Refund Report filings:

Docket Numbers: RP10-634-000.

Applicants: Gulf South Pipeline Company, LP.

Description: Gulf South Pipeline Company, LP submits capacity release agreement containing negotiated rate provisions with Texla Energy Management, Inc.

Filed Date: 04/23/2010.

Accession Number: 20100426-0206.

Comment Date: 5 p.m. Eastern Time on Wednesday, May 5, 2010.

Docket Numbers: RP10-635-000.

Applicants: Carolina Gas Transmission Corporation.

Description: Request for waiver of Carolina Gas Transmission Corporation.

Filed Date: 04/23/2010.

Accession Number: 20100426-0208.

Comment Date: 5 p.m. Eastern Time on Wednesday, May 5, 2010.

Docket Numbers: RP10-636-000.

Applicants: Southern Star Central Gas Pipeline, Inc.

Description: Southern Star Central Gas Pipeline, Inc. submits First Revised Sheet 6 et al. to its FERC Gas Tariff, Original Volume 1, to be effective 6/1/2010.

Filed Date: 04/26/2010.

Accession Number: 20100426-0209.

Comment Date: 5 p.m. Eastern Time on Monday, May 10, 2010.

Docket Numbers: RP10-637-000.

Applicants: Texas Eastern Transmission, L.P.

Description: Texas Eastern Transmission, LP submits Second Revised Fifth Revised Sheet 645 et al. to FERC Gas Tariff, Seventh Revised Volume 1, to be effective 11/13/09.

Filed Date: 04/26/2010.

Accession Number: 20100426-0210.

Comment Date: 5 p.m. Eastern Time on Monday, May 10, 2010.

Docket Numbers: RP10-638-000.

Applicants: CenterPoint Energy-Mississippi River Transmission Corporation.

Description: CenterPoint Energy-Mississippi River Transmission Corporation submits an amended negotiated rate agreement between MRT and LER.

Filed Date: 04/26/2010.

Accession Number: 20100426-0211

Comment Date: 5 p.m. Eastern Time on Monday, May 10, 2010.

Docket Numbers: RP10-639-000.

Applicants: CenterPoint Energy-Mississippi River Transmission Corporation.

Description: CenterPoint Energy-Mississippi River Transmission Corporation submits an amended negotiated rate agreement between MRT and CES.

Filed Date: 04/26/2010.

Accession Number: 20100426-0212.

Comment Date: 5 p.m. Eastern Time on Monday, May 10, 2010.

Docket Numbers: RP10-640-000.

Applicants: Texas Eastern Transmission, LP.

Description: Texas Eastern Transmission, LP submits tariff filing per 154.204: Texas Eastern April 26, 2010, Clean-up Filing to be effective 4/22/2010.

Filed Date: 04/26/2010.

Accession Number: 20100426-5042.

Comment Date: 5 p.m. Eastern Time on Monday, May 10, 2010.

Docket Numbers: RP10-641-000.

Applicants: Kinder Morgan Interstate Gas Trans. LLC.

Description: Petition of Kinder Morgan Interstate Gas Transmission LLC for a Limited Waiver of Tariff Provision.

Filed Date: 04/26/2010.

Accession Number: 20100426-5054.

Comment Date: 5 p.m. Eastern Time on Monday, May 10, 2010.

Docket Numbers: RP10-642-000.

Applicants: CenterPoint Energy Gas Transmission Company.

Description: CenterPoint Energy Gas Transmission Company submits Second Revised Sheet 195 part of its FERC Gas Tariff, Sixth Revised Volume 1, to be effective 5/26/2010.

Filed Date: 04/26/2010.

Accession Number: 20100426-0224.

Comment Date: 5 p.m. Eastern Time on Monday, May 10, 2010.

Docket Numbers: RP10-643-000.

Applicants: Dominion Transmission, Inc.

Description: Dominion Transmission, Inc. submits Thirtieth Revised Sheet 39 et al. to its FERC Gas Tariff, Third Revised Volume 1, to effective 5/26/2010.

Filed Date: 04/26/2010.

Accession Number: 20100426-0225.

Comment Date: 5 p.m. Eastern Time on Monday, May 10, 2010.

Docket Numbers: RP10-644-000.

Applicants: Texas Eastern Transmission, LP.

Description: Texas Eastern Transmission, LP submits tariff filing per 154.204: South Jersey Negotiated Rate be effective 4/26/2010.

Filed Date: 04/27/2010.

Accession Number: 20100427-5005.

Comment Date: 5 p.m. Eastern Time on Monday, May 10, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-10346 Filed 5-3-10; 8:45 am]

BILLING CODE 6717-01-P